DEPARTMENT OF TRANSPORTATION

Pipeline and Hazardous Materials Safety Administration

[Docket No. PHMSA-2019-0195 (Notice No. 2020-07)]

Hazardous Materials: Information Collection Activities

AGENCY: Pipeline and Hazardous Materials Safety Administration (PHMSA), Department of Transportation (DOT).

ACTION: Notice and request for comments.

SUMMARY: In accordance with the Paperwork Reduction Act of 1995, PHMSA invites comments on a revision to the information collection pertaining to hazardous materials public sector training and planning grants for which PHMSA intends to request a renewal with revision from the Office of Management and Budget.

DATES: Interested persons are invited to submit comments on or August 24, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Steven Andrews or Shelby Geller, Standards and Rulemaking Division, (202) 366-8553, Pipeline and Hazardous Materials Safety Administration, U.S. Department of Transportation, 1200 New Jersey Avenue SE, Washington, DC 20590-0001.

SUPPLEMENTARY INFORMATION: Section 1320.8 (d), title 5, Code of Federal Regulations (CFR) requires PHMSA to provide interested members of the public and affected agencies an opportunity to comment on information collection and recordkeeping requests. This notice identifies an information collection request that PHMSA will be submitting to the Office of Management and Budget (OMB) for revision. Specifically, PHMSA is notifying the public of its intent to seek additional information in hazardous materials planning grant applications. This information collection is contained in 49 CFR 171.6 of the Hazardous Materials Regulations (HMR; 49 CFR parts 171-180). PHMSA has revised burden estimates, where appropriate, to reflect current reporting levels or adjustments based on a proposed revision to this information collection. The following information is provided for this information collection: (1) Title of the information collection, including former title if a change is being made; (2) OMB control number; (3) summary of the information collection activity; (4) description of affected public; (5) estimate of total annual reporting and recordkeeping burden; and (6) frequency of collection. PHMSA will request a 3-year term of approval for this information collection activity.

On February 28, 2019, PHMSA published a final rule titled “Hazardous Materials: Oil Spill Response Plans and Information Sharing for High-Hazard Flammable Trains (FAST Act)” [HM-251B; 84 FR 6910] which revised and clarified requirements for Comprehensive Oil Spill Response Plans (COSRPs) and expanded their applicability based on petroleum oil thresholds that apply to an entire train consist. The final rule also requires a railroad to share information about high-hazard flammable train (HHFT) operations with each State emergency response commissions (SERC), Tribal Emergency Response Commission (TERC), or other appropriate State-delegated agency in each State through which it operates to improve community preparedness. At a minimum, railroads must provide: (1) A reasonable estimate of the number of HHFTs that the railroad expects to operate each week, through each county within the State or through each tribal jurisdiction; (2) the routes over which the HHFTs will operate; (3) a description of the hazardous materials being transported and all applicable emergency response information required by the shipping papers and emergency response information requirements of the HMR; (4) an HHFT point of contact; and (5) a description of the response zones (including counties and states) and the contact information for the qualified individual and alternate as specified under § 130.120(c) if a route identified above is additionally subject to the comprehensive spill plan requirements. In addition, the HHFT notification must be maintained and transmitted in accordance with the following: (1) Railroads must update the notifications for changes in volume greater than 25%; (2) notifications and updates may be transmitted electronically or by hard copy; (3) if the disclosure includes information that a railroad believes is security sensitive or proprietary and exempt from public disclosure, the railroad should indicate that in the notification; (4) each point of contact must be clearly identified by name or title, and contact role (e.g., qualified individual, HHFT point of contact) in association with the telephone number. One point of contact may fulfill multiple roles; and (5) copies of the railroad's notifications made under this section must be made available to the Department of Transportation upon request.

Following an audit conducted by the General Accounting Office (GAO), PHMSA received a recommendation (GAO-17-91) to develop a process for regularly collecting information from SERCs on the distribution of the railroad-provided hazardous materials shipping information to local planning entities. In response to this recommendation, PHMSA will have grant applicants declare if SERCs have received copies of the railroad-provided information detailed above. In addition, PHMSA will determine if the SERCs are disseminating this information to local planning entities. PHMSA expects that requesting grantees to provide this additional information will add approximately 2 minutes of burden time per respondent. For 62 grantees, this is approximately 2 additional burden hours (62 grantees × 2 minutes).

A Federal Register Notice with a 60-day comment period soliciting comments on this information collection was published on November 26, 2019 [84 FR 65213].

PHMSA received no comments to the 60-day notice.

Question/topic | Respondents | Responses per respondent | Number of responses | Hours per response | Total burden hours
General Grantee and Sub-grantee information | 62 | 1 | 62 | 16 | 992
Information on LEPCs | 62 | 1 | 62 | 16 | 992
Assessment of Potential Chemical Threats | 62 | 1 | 62 | 8 | 496
Assessment of Response Capabilities for Accidents/Incidents | 62 | 1 | 62 | 8 | 496
HMEP Planning and Training Grant Reporting | 62 | 1 | 62 | 7 | 434
HMEP Planning Goals and Objectives | 62 | 1 | 62 | 7 | 434
HMEP Training and Planning Assessment | 62 | 1 | 62 | 7 | 434
Hazmat Transportation Fees | 62 | 1 | 62 | 3.23 | 200.26
Grant Applicant is NIMS Compliant/Grant Application Is Reviewed By SERC | 62 | 1 | 62 | 5.5 | 341
HMEP Grant Program Administration | 62 | 1 | 62 | 5.5 | 341
HHFT Information Sharing Compliance Questions | 62 | 1 | 62 | 0.033 | 2.067

As described above, PHMSA currently estimates the OMB Control Number 2137-0586 burden to be revised as follows:

Title: Hazardous Materials Public Sector Training and Planning Grants

OMB Control Number: 2137-0586

Summary: Part 110 of 49 CFR sets forth the procedures for reimbursable grants for public sector planning and training in support of the emergency planning and training efforts of States, Territories, and Indian tribes to manage hazardous materials emergencies, particularly those involving transportation. Sections in this part address information collection reporting requirements regarding the application for grants, the monitoring of expenditures, and the reporting and requesting of modifications.

Information collection | Respondents | Total annual responses | Hours per response | Total annual burden hours
Hazardous Materials Public Sector Training & Planning Grants | 62 | 62 | 83.26 | 5,162

Affected Public: State and local governments, Indian tribes.

Increase in Annual Reporting and Recordkeeping Burden:

Increase in Annual Respondents: 0.

Increase in Annual Responses: 0.

Increase in Annual Burden Hours: 2.

Frequency of collection: Annually.

Issued in Washington, DC.
William A. Quade,
Deputy Associate Administrator of Hazardous Materials Safety, Pipeline and Hazardous Materials Safety Administration.

[FR Doc. 2020-15949 Filed 7-22-20; 8:45 am]

BILLING CODE 4910-60-P